DEPARTMENT OF TRANSPORTATION

Federal Aviation Administration

14 CFR Part 71

[Docket No. FAA-2022-0030; Airspace Docket No. 21-AAL-54]

RIN 2120-AA66

Proposed Modification of Class E Airspace; Sitka Rocky Gutierrez Airport, AK

AGENCY: Federal Aviation Administration (FAA), DOT.

ACTION: Notice of proposed rulemaking (NPRM).

SUMMARY: This action proposes to modify the Class E airspace, designated as a surface area. The Class E2 airspace to the northwest of the airport requires modification to properly contain instrument flight rules (IFR) aircraft descending below 1,000 feet above the surface of the earth. Additionally, this action proposes to remove Class E airspace, designated as an extension to a Class D or Class E2 surface area. Lastly, this action proposes to modify Class E airspace extending upward from 700 feet above the surface of the earth at Sitka Rocky Gutierrez Airport, AK. This action would ensure the safety and management of IFR operations at the airport.

DATES: Comments must be received on or before March 24, 2022.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2022-0030; Airspace Docket No. 21-AAL-54, at the beginning of your comments. You may also submit comments through the internet at https://www.regulations.gov.

FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class E airspace at Sitka Rocky Gutierrez Airport, AK, to support IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2022-0030; Airspace Docket No. 21-AAL-54”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by modifying the Class E airspace designated as a surface area at Sitka Rocky Gutierrez Airport, AK. The Class E surface airspace area northwest of the airport requires modification to properly contain IFR aircraft descending below 1,000 feet above the surface of the earth. The LDA/DME RWY 11 approach procedure turn area currently extends 28.3 miles to the northwest, but the area should be reduced due to the proposed elimination of the LDA/DME RWY 11 approach procedure turn. This reduction would require additional Class E surface area airspace in the northwest to appropriately contain IFR aircraft descending below 1,000 feet above the surface of the earth. Furthermore, the Class E surface airspace area southeast of the airport requires modification to the area. The proposed increase would properly contain IFR departures until reaching 700 feet above the surface of the earth. Finally, the Class E surface area airspace requires a reduction northeast of the airport. Circling approaches are not applicable on the northeast side of the airport and the airspace in that area is not necessary.

This action also proposes to remove the Class E airspace, designated as an extension to a Class D or Class E surface area. This airspace is no longer required due to the proposed removal of the LDA/DME RWY 11 approach procedure turn.

Lastly, this action proposes to modify the Class E airspace extending upward from 700 feet above the surface of the earth. The area northwest of the airport should be extended to the northwest, and the area southwest of the airport requires minor adjustment to more appropriately contain arriving IFR aircraft descending below 1,500 feet above the surface of the earth and departing IFR aircraft until reaching 1,200 feet above the surface of the earth. Additionally, the Class E airspace extending upward from 700 feet above the surface of the earth requires a reduction northeast of the airport. Circling approaches are not applicable on the northeast side of the airport and the airspace in that area is not necessary.

Class E2, Class E4, and Class E5 airspace designations are published in paragraphs 6002, 6004, and 6005, respectively, of FAA Order JO 7400.11F, dated August 10, 2021, and effective September 15, 2021, which is incorporated by reference in 14 CFR 71.1. The Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6002 Class E Airspace Areas Designated as a Surface Area.

* * * * *

AAL AK E2 Sitka, AK [Amended]

Sitka Rocky Gutierrez Airport, AK

(Lat. 57°02′49″ N, long. 135°21′40″ W)

That airspace extending upward from the surface within a 4.1-mile radius of the airport beginning at the 105° bearing from the airport clockwise to the 337° bearing from the airport, then to the point of beginning 4.1 miles east of the airport, and within 2.7 miles each side of the 150° bearing from the airport extending from the 4.1-mile radius to 6.6 miles southeast of the airport, and within 1.5 miles each side of the 209° bearing from the airport extending from the 4.1-mile radius to 4.4 miles southwest of the airport, and within 1.2 miles each side of the 314° bearing from the airport extending from the 4.1-mile radius to 6 miles northwest of the airport, and within 1.1 miles each side of the 320° bearing from the airport extending from the 4.1-mile radius to 5.2 miles northwest of the airport.

Paragraph 6004 Class E Airspace Areas Designated as an Extension to a Class D or Class E2 Surface Area.

* * * * *

AAL AK E4 Sitka, AK [Removed]

Sitka Rocky Gutierrez Airport, AK

(Lat. 57°02′49″ N, long. 135°21′40″ W)

Paragraph 6005 Class E Airspace Areas Extending Upward From 700 Feet or More Above the Surface of the Earth.

* * * * *

AAL AK E5 Sitka, AK [Amended]

Sitka Rocky Gutierrez Airport, AK

(Lat. 57°02′49″ N, long. 135°21′40″ W)

That airspace extending upward from 700 feet above the surface within a 7.3-mile radius of the airport beginning at the 102° bearing from the airport clockwise to the 357° bearing from the airport, then to the point of beginning 7.3 miles east of the airport, and within 4.6 miles each side of the 212° bearing from the airport, extending from the 7.3-mile radius to 25.2 miles southwest of the airport, and within 4.5 miles each side of the 316° bearing from the airport extending from the 7.3-mile radius to 9.8 miles northwest of the airport; excluding that airspace that extends beyond 12 miles from the coast.

Issued in Des Moines, Washington, on February 1, 2022.
B.G. Chew,
Acting Group Manager, Operations Support Group, Western Service Center.

[FR Doc. 2022-02454 Filed 2-4-22; 8:45 am]

BILLING CODE 4910-13-P